DEPARTMENT OF HEALTH AND HUMAN SERVICES

Agency for Toxic Substances and Disease Registry

[ATSDR-230]

Public Health Assessments and Health Consultations Completed January 2007-March 2007

AGENCY: Agency for Toxic Substances and Disease Registry (ATSDR), Department of Health and Human Services (HHS).

ACTION: Notice.

SUMMARY: This notice announces those sites for which ATSDR has completed public health assessments and health consultations during the period from January 1, 2007 through March 31, 2007. This list includes sites that are on or proposed for inclusion on the National Priorities List (NPL) and includes sites for which assessments or consultations were prepared in response to requests from the public.

FOR FURTHER INFORMATION CONTACT: William Cibulas, Jr., PhD, Director, Division of Health Assessment and Consultation, Agency for Toxic Substances and Disease Registry, 1600 Clifton Road, NE., Mailstop E-32, Atlanta, Georgia 30333, telephone (404) 498-0007.

SUPPLEMENTARY INFORMATION: The most recent list of completed public health assessments and health consultations was published in the Federal Register on March 20, 2007 [72 FR 13115]. This announcement is the responsibility of ATSDR under the regulation “Public Health Assessments and Health Effects Studies of Hazardous Substances Releases and Facilities” [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and health consultations are available for public inspection at the ATSDR Records Center, 1825 Century Boulevard, Atlanta, Georgia (not a mailing address), between 8 a.m. and 4:30 p.m., Monday through Friday except legal holidays. Public health assessments and health consultations are often available for public review at local repositories such as libraries in corresponding areas. Many public health assessments and health consultations are available through ATSDR's Web site at http://www.atsdr.cdc.gov/HAC/PHA/. In addition, the completed public health assessments are available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between January 1, 2007, and March 31, 2007, public health assessments were issued for the sites listed below:

NPL and Proposed NPL Sites

Georgia

Alternate Energy Resources, Inc.—(PB2007-106100); January 25, 2007.

Idaho

Bunker Hill Mining and Metallurgical Complex Operable Unit 3 (a/k/a Coeur D'Alene River Basin)—(PB2007-107841); March 26, 2007.

Illinois

Hegeler Zinc—(PB2007-106152); February 2, 2007.

New Hampshire

Former Chlor Alkali Facility Below Saw Mill Dam—(PB2007-106545); February 7, 2007.

Tennessee

Evaluation of Current (1990-2003) and Future Chemical Exposures in the Vicinity of the Oak Ridge Reservation, U.S. Department of Energy—(PB2007-106119); January 31, 2007.

Texas

Sandy Beach Road Groundwater Plume—(PB2007-104896); January 17, 2007.

West Virginia

Ravenswood PCE Ground Water Plume Site—(PB2007-107220); March 14, 2007.

Non-NPL Petitioned Sites

Florida

Coronet Industries, Incorporated (a/k/a Borden Feed Phosphate Complex)—(PB2007-104895); January 18, 2007.

Massachusetts

Evaluation of Cancer Incidence, 1982-2000, and Environmental Concerns Related to the Bird Landfill—(PB2007-106569); February 15, 2007.

Texas

East Kelly Air Force Base—(PB2007-106614); February 27, 2007.

Base de Fuerza Aerea, East Kelly (Spanish Version)—(PB2007-107191); February 27, 2007.

Health Consultations Completed or Issued

Between January 1, 2007, and March 31, 2007, health consultations were issued for the sites listed below:

Arizona

Evaluation of Primary Metals in Private Drinking Water Wells in the Walker Area; March 6, 2007.

Lone Butte Industrial Park—Perchlorate; March 8, 2007.

Lone Butte Industrial Park—TCE; January 10, 2007.

North Indian Bend Wash, Area 7 Groundwater Extraction and Treatment Facility; March 8, 2007.

California

Evaluation of Indoor Air Migration in Building On-Site and Adjacent to the Omega Chemical Site; March 20, 2007.

Klau/Buena Vista Mines—Evaluation of Fish Consumption from Lake Nacimiento—Exposure Investigation Report; February 6, 2007.

Colorado

A1 Stop Laundry and Dry Cleaners—Indoor Air Quality Assessment of a Residential Neighborhood Overlying a Tetrachloroethylene (PCE) Groundwater Plume; February 20, 2007.

Connecticut

Raymark Industries, Inc.—Evaluation of Soils at Selected School/Daycare Properties Located Near Raymark Industries Waste Disposal Areas; February 13, 2007.

Somers Plating, Inc.—Public Health Evaluation of Soil Sampling Data for Lagoon 3; February 13, 2007.

Florida

Former Royal Oaks Charcoal Facility—Air Testing; January 17, 2007.

Lincoln Park Complex, Durrs Neighborhood (Off-Site) Soil; March 27, 2007.

Georgia

Miller Bottom Road Municipal Solid Waste Landfill; March 28, 2007.

Idaho

Sunnyside Area Groundwater Contamination—Evaluation of Antibiotic, Steroid Hormone & Nitrate Compounds in Groundwater Near a Confined Animal Feeding Operation (CAFO); March 19, 2007.

Indiana

Rumpke Medora Landfill—Exposure Investigation Report; February 1, 2007.

Louisiana

Bayou Bonfouca—Post-Hurricane Evaluation; January 24, 2007.

Michigan

Kingsford Middle School; March 30, 2007.

Ontonagon High School Mercury Release; March 30, 2007.

Nebraska

Arsenic in Soil in East Omaha, Nebraska; March 20, 2007.

New Jersey

Celotex Corporation; January 10, 2007.

North Carolina

APAC Carolina Inc. and Associated Asphalt Inc., Jake Alexander Boulevard; February 14, 2007.

Weyerhaeuser Pulp and Paper Mill—Exposure Investigation Report; March 22, 2007.

Pennsylvania

Ivy Industrial Park Site—Public Health Evaluation of Residential Indoor Air and Well Water Sample Results; March 5, 2007.

Remacor Site; January 10, 2007.

Tennessee

Mr. Zip Convenience Store; March 14, 2007.

Texas

Former Delroc Oil Refinery/Woodwind Lakes Subdivision; February 23, 2007.

Utah

Vermiculite Intermountain and Intermountain Products, Inc.—Epidemiological Investigation of Human Exposure to a Contaminated Vermiculite Ore Processing Site in Utah; March 1, 2007.

Washington

Home Heating Oil Release, Technical Review of the Site Hazard Assessment; March 29, 2007.

Wisconsin

Amery-Dresser Trail; January 23, 2007.

Dated: May 2, 2007.
Kenneth Rose,
Acting Director, Office of Policy, Planning, and Evaluation, National Center for Environmental Health/Agency for Toxic Substances and Disease Registry.

[FR Doc. E7-8758 Filed 5-7-07; 8:45 am]

BILLING CODE 4163-70-P